TENNESSEE VALLEY AUTHORITY

Meetings; Sunshine Act

Agency Holding the Meeting: Tennessee Valley Authority (Meeting No. 08-01).

Time and Date: 11 a.m. EST, February 15, 2008, TVA Chattanooga Office Complex, 1101 Market Street, Chattanooga, Tennessee.

Agenda

Old Business

Approval of minutes of November 29, 2007, Board Meeting.

New Business

1. Chairman's Report

A. Ad Hoc Committee on energy efficiency, demand response, and renewable energy

B. Report on committee memberships

2. President's Report

3. Report of the Finance, Strategy, and Rates Committee

C. Customer issues

i. Rate adjustment

ii. Renewable portfolio compliance for customers

iii. Seven States (customer-owned generation)

4. Report of the Operations, Environment, and Safety Committee

A. Radiological waste processing contract

5. Report of the Audit and Ethics Committee

6. Report of the Community Relations Committee

A. Appointment to Regional Resource Stewardship Council

7. Report of the Corporate Governance Committee

A. Amendments to TVA Bylaws

B. TVA Board Practice on Approval of Settlements of Claims and Litigation

C. TVA Board Practice on Board Member Continuing Education Opportunities

D. Election of Chair

8. Ike Zeringue Engineer of the Year Award.

FOR MORE INFORMATION CONTACT: TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: February 8, 2008.
Ralph E. Rodgers,
Assistant General Counsel and Assistant Secretary.

[FR Doc. 08-676 Filed 2-11-08; 9:49 am]

BILLING CODE 8120-08-P